DEPARTMENT OF THE INTERIOR

Bureau of Land Management

Dakotas Advisory Council Meeting

AGENCY: Bureau of Land Management, South Dakota Field Office, Interior.

ACTION: Notice of meeting.

SUMMARY: A meeting of the Dakotas Resource Advisory Council will be held February 25 & 26, 2002, at the Holiday Inn, Spearfish, South Dakota. The session will convene at 8 a.m. on February 25th. Agenda items will include: updates on off highway vehicle EIS and the National Energy Policy, Dakota Cement, and Fire and Fuel Reductions.

The meeting is open to the public and a public comment period is set for 8 a.m. on February 26, 2002. The public may make oral statements before the Council or file written statements for the Council to consider. Depending on the number of persons wishing to make an oral statement, a per-person time limit may be established. Summary minutes of the meeting will be available for public inspection and copying.

The 15-member Council advises the Secretary of the Interior, through the Bureau of Land Management, on a variety of planning and management issues associated with public land management in the Dakotas.

FOR FURTHER INFORMATION CONTACT: Patrick Gubbins, Field Office Manager, South Dakota Field Office, 310 Roundup Street, Belle Fourche, South Dakota. Telephone (605) 892-7000.

Dated: October 31, 2001.
Patrick Gubbins,
Field Office Manager.

[FR Doc. 01-30617 Filed 12-10-01; 8:45 am]

BILLING CODE 4310-$$-P